DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, March 21, 2001, 8:30 a.m. to March 21, 2001, 4 p.m., Holiday Inn—Silver Spring, 8777 Georgia Avenue, Silver Spring, MD 20910 which was published in the Federal Register on March 12, 2001, 66 FR 14402.

The meeting will be held on March 21, 2001 from 8:30 a.m. to 12 p.m. at the Holiday Inn in Silver Spring instead of 8:30 a.m.-4 p.m. as previously advertised. The meeting is closed to the public.

Dated: March 19, 2001.
LaVerne Y. Stringfield,
Director, Office of Federal Advisory Committee Policy.

[FR Doc. 01-7476 Filed 3-26-01; 8:45 am]

BILLING CODE 4140-01-M